DEPARTMENT OF STATE

[Public Notice 11583]

Advisory Committee on International Law

ACTION: Notice of Open Meeting.

Notice of Meeting of Advisory Committee on International Law.

A meeting of the Department of State's Advisory Committee on International Law will take place virtually on Friday, December 3, 2021. Acting Legal Adviser Richard Visek will chair the meeting, which will be open to the public. It is anticipated that the meeting will include discussions on current international law topics of key importance to the Office of the Legal Adviser.

Members of the public who wish to attend should contact the Office of the Legal Adviser by December 1 at welcherar@state.gov or 202-647-1646 and provide their name, professional affiliation, address, and phone number. A link to the virtual meeting platform will be provided at that time. Attendees who require reasonable accommodation should make their requests by November 26. Requests received after that date will be considered but might not be possible to accommodate.

Alison Welcher,
Executive Director, Advisory Committee on International Law, Department of State.

[FR Doc. 2021-24761 Filed 11-12-21; 8:45 am]

BILLING CODE 4710-08-P